DEPARTMENT OF HOMELAND SECURITY

Coast Guard

33 CFR Part 165

[Docket No. 0279]

Safety Zones; Annual Events in the Captain of the Port Buffalo Zone—Lake Erie Open Water Swim

AGENCY: Coast Guard, DHS.

ACTION: Notice of enforcement of regulation.

SUMMARY: The Coast Guard will enforce a safety zone for the Lake Erie Open Water Swim. Our regulation for annual events in the Captain of the Port Buffalo Zone identifies the regulated area for this event in Cleveland, OH. This action is necessary and intended for the safety of life and property on navigable waters during the event. During the enforcement period, no person or vessel may enter the respective safety zone without the permission of the Captain of the Port Buffalo.

DATES: The regulations listed in 33 CFR 165.939 will be enforced for the Lake Erie Open Water Swim safety zone as listed in item b.12 in the Table to § 165.939 from 6:45 a.m. through 11:15 a.m. on July 9, 2022.

FOR FURTHER INFORMATION CONTACT: If you have questions about this notice of enforcement, call or email Jared Stevens, Waterways Management Division, Marine Safety Unit Cleveland, U.S. Coast Guard; telephone 216-937-0124, email D09-SMB-MSUCLEVELAND-WWM@uscg.mil.

SUPPLEMENTARY INFORMATION: The Coast Guard will enforce the safety zone listed in 33 CFR 165.939 item b.12 in Table 1 for the Lake Erie Open Water Swim from 6:45 a.m. through 11:15 a.m. on July 9, 2022. This action is being taken to provide for the safety of life on navigable waterways during this event. Our regulation for annual events in the Captain of the Port Buffalo zone, § 165.939, specifies the location of the safety zone for the Lake Erie Open Water Swim as all U.S. waters of Lake Erie, south of a line drawn between positions 41°29′30″ N, 081°44′21″ W and 41°29′21″ N, 081°45′04″ W to the shore. During the enforcement period, as reflected in § 165.23, entry into, transiting, or anchoring within the safety zone during an enforcement period is prohibited unless authorized by the Captain of the Port Buffalo or a designated representative. Those seeking permission to enter the safety zone may request permission from the Captain of Port Buffalo via channel 16, VHF-FM. Vessels and persons granted permission to enter the safety zone shall obey the directions of the Captain of the Port Buffalo or a designated representative. While within a safety zone, all vessels shall operate at the minimum speed necessary to maintain a safe course.

In addition to this notice of enforcement in the Federal Register, the Coast Guard plans to provide notification of this enforcement period via the Broadcast Notice to Mariners or Local Notice to Mariners. If the Captain of the Port Buffalo determines that the safety zone need not be enforced for the full duration stated in this notice, they may use a Broadcast Notice to Mariners to grant general permission to enter the respective safety zone.

Dated: April 11, 2022.
L.M. Littlejohn,
Captain, U.S. Coast Guard, Captain of the Port Buffalo.

[FR Doc. 2022-08428 Filed 4-19-22; 8:45 am]

BILLING CODE 9110-04-P